ENVIRONMENTAL PROTECTION AGENCY

[EPA-HQ-OPP-2007- 2007-0361; FRL-8143-8]

Pesticide Emergency Exemptions; Agency Decisions and State and Federal Agency Crisis Declarations

AGENCY: Environmental Protection Agency (EPA).

ACTION: Notice.

SUMMARY: EPA has granted or denied emergency exemptions under the Federal Insecticide, Fungicide, and Rodenticide Act (FIFRA) for use of pesticides as listed in this notice. The exemptions or denials were granted during the period April 1 to June 30, 2007 to control unforeseen pest outbreaks.

FOR FURTHER INFORMATION CONTACT: See each emergency exemption or denial for the name of a contact person. The following information applies to all contact persons: Team Leader, Emergency Response Team, Registration Division (7505P), Office of Pesticide Programs, Environmental Protection Agency, 1200 Pennsylvania Ave., NW., Washington, DC 20460-0001; telephone number: (703) 308-8179.

SUPPLEMENTARY INFORMATION: EPA has granted or denied emergency exemptions to the following State and Federal agencies. The emergency exemptions may take the following form: Crisis, public health, quarantine, or specific. EPA has also listed denied emergency exemption requests in this notice.

I. General Information

A. Does this Action Apply to Me?

You may be potentially affected by this action if you are an agricultural producer, food manufacturer, or pesticide manufacturer. Potentially affected entities may include, but are not limited to:

• Crop production (NAICS code 111).

• Animal production (NAICS code 112).

• Food manufacturing (NAICS code 311).

• Pesticide manufacturing (NAICS code 32532).

This listing is not intended to be exhaustive, but rather provides a guide for readers regarding entities likely to be affected by this action. Other types of entities not listed in this unit could also be affected. The North American Industrial Classification System (NAICS) codes have been provided to assist you and others in determining whether this action might apply to certain entities. To determine whether you or your business may be affected by this action, you should carefully examine the applicability provisions discussed above. If you have any questions regarding the applicability of this action to a particular entity, consult the person listed under FOR FURTHER INFORMATION CONTACT.

B. How Can I Get Copies of this Document and Other Related Information?

1. Docket. EPA has established a docket for this action under docket identification (ID) number EPA-HQ-OPP-2007-0361. Publicly available docket materials are available either electronically at http://www.regulations.gov, or, if only available in hard copy, at the OPP Regulatory Public Docket in Rm. S-4400, One Potomac Yard (South Bldg.), 2777 S. Crystal Dr., Arlington, VA. The hours of operation of this Docket Facility is open from 8:30 a.m. to 4 p.m., Monday through Friday, excluding legal holidays. The Docket Facility telephone number is (703) 305-5805.

2. Electronic access. You may access this Federal Register document electronically through the EPA Internet under the “Federal Register” listings at http://www.epa.gov/fedrgstr.

II. Background

Under FIFRA section 18, EPA can authorize the use of a pesticide when emergency conditions exist. Authorizations (commonly called emergency exemptions) are granted to State and Federal agencies and are of four types:

1. A “specific exemption” authorizes use of a pesticide against specific pests on a limited acreage in a particular State. Most emergency exemptions are specific exemptions.

2. “Quarantine” and “public health” exemptions are a particular form of specific exemption issued for quarantine or public health purposes. These are rarely requested.

3. A “crisis exemption” is initiated by a State or Federal agency (and is confirmed by EPA) when there is insufficient time to request and obtain EPA permission for use of a pesticide in an emergency.

EPA may deny an emergency exemption: If the State or Federal agency cannot demonstrate that an emergency exists, if the use poses unacceptable risks to the environment, or if EPA cannot reach a conclusion that the proposed pesticide use is likely to result in “a reasonable certainty of no harm” to human health, including exposure of residues of the pesticide to infants and children.

If the emergency use of the pesticide on a food or feed commodity would result in pesticide chemical residues, EPA establishes a time-limited tolerance meeting the “reasonable certainty of no harm standard” of the Federal Food, Drug, and Cosmetic Act (FFDCA).

In this document: EPA identifies the State or Federal agency granted the exemption or denial, the type of exemption, the pesticide authorized and the pests, the crop or use for which authorized, number of acres (if applicable), and the duration of the exemption. EPA also gives the Federal Register citation for the time-limited tolerance, if any.

III. Emergency Exemptions and Denials

A. U. S. States and Territories

Alabama

Department of Agriculture and Industries

Specific Exemption: EPA authorized the use of diuron in catfish ponds to control blue-green algae (Oscillatoria chalybea (cyanobacteria)); April 16, 2007 to April 16, 2008. Contact: (Libby Pemberton).

Quarantine Exemption: EPA authorized the use of flusilazole on soybeans to control Australasian soybean rust (Phakopsora pachyrhizi); June 15, 2007 to June 15, 2010. Contact: (Andrea Conrath).

EPA authorized the use of cyproconazole on soybeans to control Australasian soybean rust (Phakopsora pachyrhizi); May 4, 2007 to March 31, 2009. Contact: (Stacey Groce).

EPA authorized the use of metconazole on soybeans to control Australasian soybean rust (Phakopsora pachyrhizi); June 15, 2007 to April 19, 2007. Contact: (Stacey Groce).

EPA authorized the use of flutriafol on soybeans to control Australasian soybean rust (Phakopsora pachyrhizi); May 11, 2007 to May 11, 2010. Contact: (Princess Campbell).

Arkansas

State Plant Board

Specific Exemption: EPA authorized the use of diuron in catfish ponds to control blue-green algae (Oscillatoria chalybea (cyanobacteria)); April 16, 2007 to April 16, 2008. Contact: (Libby Pemberton).

EPA authorized the use of sulfosulfuron on bermudagrass and bahiagrass pastures and hayfields to control Johnsongrass (Sorghum halepense); May 29, 2007 to September 15, 2007. Contact: (Libby Pemberton).

EPA authorized the use of fenpyroximate in beehives to control varroa mites; June 15, 2007 to February 28, 2008. Contact: (Stacey Groce).

Crisis: On April 20, 2007, for the use of metribuzin on corn to control freeze damaged corn. This program ended on May 5, 2007. Contact: (Marcel Howard).

On May 15, 2007, for the use of thifensulfuron on wheat to control frost damaged wheat. This program ended on May 29, 2007. Contact: (Marcel Howard).

Quarantine Exemption: EPA authorized the use of flusilazole on soybeans to control Australasian soybean rust (Phakopsora pachyrhizi); June 15, 2007 to June 15, 2010. Contact: (Andrea Conrath).

EPA authorized the use of metconazole on soybeans to control Australasian soybean rust (Phakopsora pachyrhizi); June 15, 2007 to April 19, 2009. Contact: (Stacey Groce).

California

Environmental Protection Agency, Department of Pesticide Regulation

Specific Exemption: EPA authorized the use of oxytetracycline on Pink Lady apples to control fire blight; March 16, 2007 to August 1, 2007. Contact: (Andrew Ertman).

EPA authorized the use of fenamidone on carrots to control cavity spot; June 30, 2007 to June 30, 2008. Contact: (Andrea Conrath).

EPA authorized the use of myclobutanil on bell and non-bell peppers to control powdery mildew; June 1, 2007 to May 31, 2008. Contact: (Stacey Groce).

Crisis: On March 16, 2007, for the use of oxytetracycline on Pink Lady apples to control fire blight. This program ended on August 1, 2007. Contact: (Andrew Ertman).

Quarantine: EPA authorized the use of diflubenzuron on commercial, institutional, and residential plantings of trees, shrubs (including containerized nursery stock), citrus fruits, avocados, subtropical and tropical fruits that have been quarantined to treat diaprepes root weevil; April 20, 2007 to April 14, 2010. Contact: (Libby Pemberton).

Colorado

Department of Agriculture

Specific Exemption: EPA authorized the use of formetanate hydrochloride on onion, bulb to control thrips; May 16, 2007 to September 30, 2007. Contact: (Andrew Ertman).

EPA authorized the use of abamectin on onion, bulb to control thrips; June 25, 2007 to September 30, 2007. Contact: (Andrew Ertman).

EPA authorized the use of fenpyroximate in beehives to control varroa mites; May 4, 2007 to February 28, 2008. Contact: (Stacey Groce).

Delaware

Department of Agriculture

Quarantine Exemption: EPA authorized the use of flusilazole on soybeans to control Australasian soybean rust (Phakopsora pachyrhizi); June 15, 2007 to June 15, 2010. Contact: (Andrea Conrath).

EPA authorized the use of cyproconazole on soybeans to control Australasian soybean rust (Phakopsora pachyrhizi); May 4, 2007 to March 31, 2009. Contact: (Stacey Groce).

EPA authorized the use of metconazole on soybeans to control Australasian soybean rust (Phakopsora pachyrhizi); June 15, 2007 to April 19, 2009. Contact: (Stacey Groce).

EPA authorized the use of flutriafol on soybeans to control Australasian soybean rust (Phakopsora pachyrhizi); June 7, 2007 to June 7, 2010. Contact: (Princess Campbell).

Georgia

Department of Agriculture

Quarantine Exemption: EPA authorized the use of flusilazole on soybeans to control Australasian soybean rust (Phakopsora pachyrhizi); July 6, 2007 to June 15, 2010. Contact: (Andrea Conrath).

EPA authorized the use of flutriafol on soybeans to control Australasian soybean rust (Phakopsora pachyrhizi); May 11, 2007 to May 11, 2010. Contact: (Princess Campbell).

Idaho

Department of Agriculture

Specific Exemption: EPA authorized the use of lambda cyhalothin on barley to control Russian wheat aphids, cereal leaf beetles, cutworms, and armyworms; May 1, 2007 to August 15, 2007. Contact: (Andrew Ertman).

EPA authorized the use of formetanate hydrochloride on onion, bulb to control thrips; May 15, 2007 to September 15, 2007. Contact: (Andrew Ertman).

Illinois

Department of Agriculture

Specific Exemption: EPA authorized the use of tebuconazole on wheat to control Fusarium head blight (FHB); April 13, 2007 to June 20, 2007. Contact: (Libby Pemberton).

Crisis: On May 18, 2007, for the use of thifensulfuron on wheat to control frost damaged wheat. This program ended on June 1, 2007. Contact: (Marcel Howard).

Quarantine Exemption: EPA authorized the use of flusilazole on soybeans to control Australasian soybean rust (Phakopsora pachyrhizi); June 15, 2007 to June 15, 2010. Contact: (Andrea Conrath).

EPA authorized the use of metconazole on soybeans to control Australasian soybean rust (Phakopsora pachyrhizi); June 15, 2007 to April 19, 2009. Contact: (Stacey Groce).

EPA authorized the use of flutriafol on soybeans to control Australasian soybean rust (Phakopsora pachyrhizi); May 11, 2007 to May 11, 2010. Contact: (Princess Campbell).

Indiana

Office of Indiana State Chemist

Specific Exemption: EPA authorized the use of tebuconazole on wheat to control Fusarium head blight (FHB); May 2, 2007 to June 30, 2007. Contact: (Libby Pemberton).

Crisis: On May 12, 2007, for the use of clethodim on corn to control burndown frost damaged corn. This program ended on May 26, 2007. Contact: (Marcel Howard)

Quarantine Exemption:EPA authorized the use of flusilazole on soybeans to control Australasian soybean rust (Phakopsora pachyrhizi); June 15, 2007 to June 15, 2010. Contact: (Andrea Conrath).

EPA authorized the use of myclobutanil on soybeans to control Australasian soybean rust (Phakopsora pachyrhizi; May 4, 2007 to May 31, 2009. Contact: (Stacey Groce).

EPA authorized the use of cyproconazole on soybeans to control Australasian soybean rust (Phakopsora pachyrhizi); May 4, 2007 to March 31, 2009. Contact: (Stacey Groce).

EPA authorized the use of metconazole on soybeans to control Australasian soybean rust (Phakopsora pachyrhizi); June 15, 2007 to April 19, 2009. Contact: (Stacey Groce).

Iowa

Department of Agriculture and Land Stewardship

Specific Exemption: EPA authorized the use of sulfentrazone on strawberries to control broadleaf weeds; June 25, 2007 to December 15, 2007. Contact: (Andrew Ertman).

Quarantine Exemption:EPA authorized the use of flusilazole on soybeans to control Australasian soybean rust (Phakopsora pachyrhizi); June 15, 2007 to June 15, 2010. Contact: (Andrea Conrath).

EPA authorized the use of metconazole on soybeans to control Australasian soybean rust (Phakopsora pachyrhizi); June 15, 2007 to April 19, 2009. Contact: (Stacey Groce).

Kansas

Department of Agriculture

Specific Exemption: EPA authorized the use of mesotrione on sorghum to control broadleaf weeds; April 24, 2007 to June 15, 2007. Contact: (Andrew Ertman).

EPA authorized the use of coumaphos in beehives to control varroa mites and small hive beetles; April 13, 2007 to February 1, 2008. Contact: (Stacey Groce).

Quarantine Exemption: EPA authorized the use of flusilazole on soybeans to control Australasian soybean rust (Phakopsora pachyrhizi); June 15, 2007 to June 15, 2010. Contact: (Andrea Conrath).

EPA authorized the use of cyproconazole on soybeans to control Australasian soybean rust (Phakopsora pachyrhizi); May 4, 2007 to March 31, 2009. Contact: (Stacey Groce).

EPA authorized the use of metconazole on soybeans to control Australasian soybean rust (Phakopsora pachyrhizi); June 15, 2007 to April 19, 2009. Contact: (Stacey Groce).

Kentucky

Department of Agriculture

Crisis: On May 7, 2007, for the use of thifensulfuron on wheat to control frost damaged wheat. This program ended on May 22, 2007. Contact: (Marcel Howard).

Quarantine Exemption:EPA authorized the use of flusilazole on soybeans to control Australasian soybean rust (Phakopsora pachyrhizi); June 15, 2007 to June 15, 2010. Contact: (Andrea Conrath).

EPA authorized the use of cyproconazole on soybeans to control Australasian soybean rust (Phakopsora pachyrhizi); May 4, 2007 to March 31, 2009. Contact: (Stacey Groce).

EPA authorized the use of metconazole on soybeans to control Australasian soybean rust (Phakopsora pachyrhizi); June 15, 2007 to April 19, 2009. Contact: (Stacey Groce).

Louisiana

Department of Agriculture and Forestry

Quarantine Exemption:EPA authorized the use of flusilazole on soybeans to control Australasian soybean rust (Phakopsora pachyrhizi); June 15, 2007 to June 15, 2010. Contact: (Andrea Conrath).

EPA authorized the use of cyproconazole on soybeans to control Australasian soybean rust (Phakopsora pachyrhizi); May 4, 2007 to March 31, 2009. Contact: (Stacey Groce).

EPA authorized the use of metconazole on soybeans to control Australasian soybean rust (Phakopsora pachyrhizi); June 15, 2007 to April 19, 2009. Contact: (Stacey Groce).

EPA authorized the use of flutriafol on soybeans to control Australasian soybean rust (Phakopsora pachyrhizi); June 7, 2007 to June 7, 2010. Contact: (Princess Campbell).

Maryland

Department of Agriculture

Quarantine Exemption: EPA authorized the use of flusilazole on soybeans to control Australasian soybean rust (Phakopsora pachyrhizi); June 15, 2007 to June 15, 2010. Contact: (Andrea Conrath).

EPA authorized the use of metconazole on soybeans to control Australasian soybean rust (Phakopsora pachyrhizi); June 15, 2007 to April 19, 2009. Contact: (Stacey Groce).

EPA authorized the use of flutriafol on soybeans to control Australasian soybean rust (Phakopsora pachyrhizi); May 11, 2007 to May 11, 2010. Contact: (Princess Campbell).

Massachusetts

Massachusetts Department of Food and Agriculture

Specific Exemption:EPA authorized the use of coumaphos in beehives to control varroa mites and small hive beetles; May 17, 2007 to February 1, 2008. Contact: (Stacey Groce).

EPA authorized the use of pronamide on cranberry to control dodder; April 24, 2007 to June 30, 2007. Contact: (Marcel Howard).

Michigan

Michigan Department of Agriculture

Specific Exemption: EPA authorized the use of tebuconazole on wheat to control Fusarium head blight (FHB); April 13, 2007 to June 25, 2007. Contact: (Libby Pemberton).

EPA authorized the use of mancozeb on ginseng to control alternaria stem and leaf blight; April 19, 2007 to October 31, 2007. Contact: (Stacey Groce).

EPA authorized the use of formetanate hydrochloride on onion, bulb to control thrips; July 15, 2007 to August 31, 2007. Contact: (Andrew Ertman).

Quarantine Exemption:EPA authorized the use of flusilazole on soybeans to control Australasian soybean rust (Phakopsora pachyrhizi); June 15, 2007 to June 15, 2010. Contact: (Andrea Conrath).

EPA authorized the use of cyproconazole on soybeans to control Australasian soybean rust (Phakopsora pachyrhizi); May 4, 2007 to March 31, 2009. Contact: (Stacey Groce).

EPA authorized the use of metconazole on soybeans to control Australasian soybean rust (Phakopsora pachyrhizi); June 15, 2007 to April 19, 2009. Contact: (Stacey Groce).

Minnesota

Department of Agriculture

Specific Exemption:EPA authorized the use of tebuconazole on barley and wheat to control Fusarium head blight (FHB); May 2, 2007 to September 1, 2007. Contact: (Libby Pemberton).

Mississippi

Department of Agriculture and Commerce

Specific Exemption:EPA authorized the use of diuron in catfish ponds to control blue-green algae (Oscillatoria chalybea (cyanobacteria)); April 16, 2007 to April 16, 2008. Contact: (Libby Pemberton).

EPA authorized the use of fenpyroximate in beehives to control varroa mites; June 15, 2007 to February 28, 2008. Contact: (Stacey Groce).

Crisis: On April 24, 2007, for the use of clethodim on corn to control freeze damaged corn. This program ended on May 8, 2007. Contact: (Marcel Howard).

Quarantine Exemption:EPA authorized the use of flusilazole on soybeans to control Australasian soybean rust (Phakopsora pachyrhizi); June 15, 2007 to June 15, 2010. Contact: (Andrea Conrath).

EPA authorized the use of cyproconazole on soybeans to control Australasian soybean rust (Phakopsora pachyrhizi); May 4, 2007 to March 31, 2009. Contact: (Stacey Groce).

EPA authorized the use of metconazole on soybeans to control Australasian soybean rust (Phakopsora pachyrhizi); June 15, 2007 to April 19, 2009. Contact: (Stacey Groce).

EPA authorized the use of flutriafol on soybeans to control Australasian soybean rust (Phakopsora pachyrhizi); May 11, 2007 to May 11, 2010. Contact: (Princess Campbell).

Missouri

Department of Agriculture

Quarantine Exemption: EPA authorized the use of flusilazole on soybeans to control Australasian soybean rust (Phakopsora pachyrhizi); June 15, 2007 to June 15, 2010. Contact: (Andrea Conrath).

EPA authorized the use of metconazole on soybeans to control Australasian soybean rust (Phakopsora pachyrhizi); June 15, 2007 to April 19, 2009. Contact: (Stacey Groce).

Specific Exemption: EPA authorized the use of fenpyroximate in beehives to control varroa mites; June 8, 2007 to February 28, 2008. Contact: (Stacey Groce).

Montana

Department of Agriculture

Specific Exemption:EPA authorized the use of lambda cyhalothrin on barley to control Russian wheat aphid, cereal leaf beetle, armyworms, and cutworms; April 19, 2007 to July 30, 2007. Contact: (Andrew Ertman).

EPA authorized the use of tebuconazole on barley and wheat to control Fusarium head blight (FHB); May 15, 2007 to July 20, 2007. Contact: (Libby Pemberton).

Nebraska

Department of Agriculture

Specific Exemption:EPA authorized the use of mesotrione on sorghum to control broadleaf weeds; April 24, 2007 to June 15, 2007. Contact: (Andrew Ertman).

Quarantine Exemption:EPA authorized the use of flusilazole on soybeans to control Australasian soybean rust (Phakopsora pachyrhizi); June 15, 2007 to June 15, 2010. Contact: (Andrea Conrath).

EPA authorized the use of metconazole on soybeans to control Australasian soybean rust (Phakopsora pachyrhizi); June 15, 2007 to April 19, 2009. Contact: (Stacey Groce).

New Jersey

Department of Environmental Protection

Specific Exemption:EPA authorized the use of coumaphos in beehives to control varroa mites and small hive beetles; April 13, 2007 to February 1, 2008. Contact: (Stacey Groce).

EPA authorized the use of pronamide on cranberry to control dodder; April 27, 2007 to December 15, 2007. Contact: (Marcel Howard).

New Mexico

Department of Agriculture

Specific Exemption: EPA authorized the use of mylcobutanil on chile (non-bell) peppers to control powdery mildew; June 28, 2007 to October 15, 2007. Contact: (Stacey Groce).

New York

Department of Environmental Conservation

Specific Exemption: EPA authorized the use of desmedipham on garden (red table) beet to control several important broadleaf weeds, including hairy galinsoga, common ragweed, redroot pigweed, common lambsquarters, velvetleaf, nightshade spp. and wild mustard; May 8, 2007 to August 15, 2007. Contact: (Libby Pemberton).

EPA authorized the use of formetanate hydrochloride on onion, bulb to control thrips; July 15, 2007 to September 15, 2007. Contact: (Andrew Ertman).

Quarantine: EPA authorized the use of cyproconazole on soybeans to control Australasian soybean rust (Phakopsora pachyrhizi); May 4, 2007 to March 31, 2009. Contact: (Stacey Groce).

EPA authorized the use of metconazole on soybeans to control Australasian soybean rust (Phakopsora pachyrhizi); June 15, 2007 to April 19, 2009. Contact: (Stacey Groce).

North Carolina

Department of Agriculture and Consumer Services

Crisis: On May 30, 2007, for the use of thifensulfuron on wheat to control frost damaged wheat. This program ended on June 13, 2007. Contact: (Marcel Howard).

Quarantine Exemption:EPA authorized the use of flusilazole on soybeans to control Australasian soybean rust (Phakopsora pachyrhizi); June 15, 2007 to June 15, 2010. Contact: (Andrea Conrath).

EPA authorized the use of cyproconazole on soybeans to control Australasian soybean rust (Phakopsora pachyrhizi); May 4, 2007 to March 31, 2009. Contact: (Stacey Groce).

EPA authorized the use of metconazole on soybeans to control Australasian soybean rust (Phakopsora pachyrhizi); June 15, 2007 to April 19, 2009. Contact: (Stacey Groce).

EPA authorized the use of flutriafol on soybeans to control Australasian soybean rust (Phakopsora pachyrhizi); June 7, 2007 to June 7, 2010. Contact: (Princess Campbell).

North Dakota

Department of Agriculture

Specific Exemption:EPA authorized the use of tebuconazole on barley and wheat to control Fusarium head blight (FHB); April 13, 2007 to September 1, 2007. Contact: (Libby Pemberton).

EPA authorized the use of zeta-cypermethrin on flax to control grasshoppers; May 15, 2007 to September 30, 2007. Contact: (Andrew Ertman).

Quarantine Exemption:EPA authorized the use of flusilazole on soybeans to control Australasian soybean rust (Phakopsora pachyrhizi); June 15, 2007 to June 15, 2010. Contact: (Andrea Conrath).

EPA authorized the use of cyproconazole on soybeans to control Australasian soybean rust (Phakopsora pachyrhizi); May 4, 2007 to March 31, 2009. Contact: (Stacey Groce).

EPA authorized the use of metconazole on soybeans to control Australasian soybean rust (Phakopsora pachyrhizi); June 15, 2007 to April 19, 2009. Contact: (Stacey Groce).

EPA authorized the use of flutriafol on soybeans to control Australasian soybean rust (Phakopsora pachyrhizi); May 11, 2007 to May 11, 2010. Contact: (Princess Campbell).

Ohio

Department of Agriculture

Specific Exemption:EPA authorized the use of formetanate hydrochloride on onion, bulb to control thrips; July 1, 2007 to September 15, 2007. Contact: (Andrew Ertman).

Quarantine Exemption:EPA authorized the use of flusilazole on soybeans to control Australasian soybean rust (Phakopsora pachyrhizi); June 15, 2007 to June 15, 2010. Contact: (Andrea Conrath).

EPA authorized the use of cyproconazole on soybeans to control Australasian soybean rust (Phakopsora pachyrhizi); May 4, 2007 to March 31, 2009. Contact: (Stacey Groce).

EPA authorized the use of metconazole on soybeans to control Australasian soybean rust (Phakopsora pachyrhizi); June 15, 2007 to April 19, 2007. Contact: (Stacey Groce).

EPA authorized the use of flutriafol on soybeans to control Australasian soybean rust (Phakopsora pachyrhizi); May 11, 2007 to May 11, 2010. Contact: (Princess Campbell).

Crisis: On May 9, 2007, for the use of clethodim on corn to control burndown frost damaged corn. This program ended on June 15, 2007. Contact: (Marcel Howard).

Oklahoma

Department of Agriculture

Specific Exemption:EPA authorized the use of sulfosulfuron on bermudagrass pastures and hayfields to control Johnsongrass (Sorghum halepense); May 11, 2007 to September 30, 2007. Contact: (Libby Pemberton).

EPA authorized the use of fenpyroximate in beehives to control varroa mites; June 15, 2007 to February 28, 2008. Contact: (Stacey Groce).

Quarantine Exemption:EPA authorized the use of flusilazole on soybeans to control Australasian soybean rust (Phakopsora pachyrhizi); June 15, 2007 to June 15, 2010. Contact: (Andrea Conrath).

EPA authorized the use of cyproconazole on soybeans to control Australasian soybean rust (Phakopsora pachyrhizi); May 4, 2007 to March 31, 2009. Contact: (Stacey Groce).

EPA authorized the use of metconazole on soybeans to control Australasian soybean rust (Phakopsora pachyrhizi); June 15, 2007 to April 19, 2009. Contact: (Stacey Groce).

Oregon

Department of Agriculture

Specific Exemption:EPA authorized the use of formetanate hydrochloride on onion, bulb to control thrips; May 15, 2007 to September 15, 2007. Contact: (Andrew Ertman).

EPA authorized the use of fenamidone on carrots to control cavity spot; May 2, 2007 to November 1, 2007. Contact: (Andrea Conrath).

EPA authorized the use of bifenthrin on orchardgrass grown for seed to control Banks grass mite; April 10, 2007 to November 15, 2007. Contact: (Andrea Conrath).

EPA authorized the use of dimethenamid on winter squash to control nightshade and other summer annual weeds; April 2, 2007 to August 1, 2007. Contact: (Marcel Howard).

EPA authorized the use of fipronil on turnip and rutabaga to control the cabbage maggot; May 4, 2007 to September 30, 2007. Contact: (Andrea Conrath).

Rhode Island

Department of Environmental Management

Specific Exemption:EPA authorized the use of pronamide on cranberry to control dodder; April 24, 2007 to June 30, 2007. Contact: (Marcel Howard).

South Carolina

Clemson University

Quarantine: EPA authorized the use of flutriafol on soybeans to control Australasian soybean rust (Phakopsora pachyrhizi); June 28, 2007 to June 28, 2010. Contact: (Princess Campbell).

Department of Pesticide Regulation and Public Services at Clemson University

Specific Exemption:EPA authorized the use of coumaphos in beehives to control varroa mites and small hive beetles; April 3, 2007 to February 1, 2008. Contact: (Stacey Groce).

Quarantine Exemption:EPA authorized the use of flusilazole on soybeans to control Australasian soybean rust (Phakopsora pachyrhizi); July 6, 2007 to June 15, 2010. Contact: (Andrea Conrath).

EPA authorized the use of cyproconazole on soybeans to control Australasian soybean rust (Phakopsora pachyrhizi; May 4, 2007 to March 31, 2009. Contact: (Stacey Groce).

EPA authorized the use of flutriafol on soybeans to control Australasian soybean rust (Phakopsora pachyrhizi); June 28, 2007 to June 28, 2010. Contact: (Princess Campbell).

South Dakota

Department of Agriculture

Specific Exemption:EPA authorized the use of tebuconazole on barley and wheat to control Fusarium head blight (FHB); April 13, 2007 to September 1, 2007. Contact: (Libby Pemberton).

EPA authorized the use of coumaphos in beehives to control varroa mites and small hive beetles; April 13, 2007 to February 1, 2008. Contact: (Stacey Groce).

EPA authorized the use of fenpyroximate in beehives to control varroa mites; May 4, 2007 to February 28, 2008. Contact: (Stacey Groce).

Quarantine: EPA authorized the use of chlorophene in laboratories to control prions; May 1, 2007 to May 1, 2010. Contact: (Princess Campbell).

Tennessee

Department of Agriculture

Crisis: On April 30, 2007, for the use of clethodim on corn to control freeze damaged corn. This program ended on May 13, 2007. Contact: (Marcel Howard).

On May 1, 2007, for the use of thifensulfuron on wheat to control frost damaged wheat. This program ended on June 1, 2007. Contact: (Marcel Howard).

Quarantine Exemption:EPA authorized the use of flusilazole on soybeans to control Australasian soybean rust (Phakopsora pachyrhizi); June 15, 2007 to June 15, 2010. Contact: (Andrea Conrath).

EPA authorized the use of cyproconazole on soybeans to control Australasian soybean rust (Phakopsora pachyrhizi; May 4, 2007 to March 31, 2009. Contact: (Stacey Groce).

EPA authorized the use of metconazole on soybeans to control Australasian soybean rust (Phakopsora pachyrhizi); June 15, 2007 to April 19, 2009. Contact: (Stacey Groce).

Texas

Department of Agriculture

Specific Exemption:EPA authorized the use of diuron in catfish and bass ponds to control blue-green algae (Oscillatoria chalybea (cyanobacteria)); April 4, 2007 to April 4, 2008. Contact: (Libby Pemberton).

EPA authorized the use of fenpyroximate in beehives to control varroa mites; June 15, 2007 to February 28, 2008. Contact: (Stacey Groce).

EPA authorized the use of hexythiazox on field corn to control the Banks grass mite and two-spotted spider mite; June 1, 2007 to August 31, 2007. Contact: ((Andrew Ertman)).

EPA authorized the use of formetanate hydrochloride on onion, bulb to control thrips; January 9, 2007 to May 31, 2007. Contact: (Andrew Ertman).

EPA authorized the use of sulfosulfuron on bermudagrass pastures and hayfields to control Johnsongrass (Sorghum halepense)); June 14, 2007 to June 30, 2008. Contact: (Libby Pemberton).

Crisis: On January 9, 2007, for the use of formetanate hydrochloride on onion, bulb to control thrips. This program ended on May 31, 2007. Contact: (Andrew Ertman).

On April 25, 2007, for the use of zeta-cypermethrin on citrus fruits to control citrus root weevil (Diaprepes abbreviatus). This program is expected to end on October 31, 2007. Contact: (Libby Pemberton).

On May 7, 2007, for the use of etofenprox on rice to control rice water weevil (Lissorhoptrus oryzophilus). This program ended on July 1, 2007. Contact: (Libby Pemberton).

Quarantine Exemption:EPA authorized the use of flusilazole on soybeans to control Australasian soybean rust (Phakopsora pachyrhizi); June 15, 2007 to June 15, 2010. Contact: (Andrea Conrath).

EPA authorized the use of cyproconazole on soybeans to control Australasian soybean rust (Phakopsora pachyrhizi); May 4, 2007 to March 31, 2009. Contact: (Stacey Groce).

EPA authorized the use of flutriafol on soybeans to control Australasian soybean rust (Phakopsora pachyrhizi); June 7, 2007 to June 7, 2010. Contact: (Princess Campbell).

EPA authorized the use of metconazole on soybeans to control Australasian soybean rust (Phakopsora pachyrhizi); June 15, 2007 to April 19, 2009. Contact: (Stacey Groce).

Virginia

Department of Agriculture and Consumer Services

Quarantine Exemption:EPA authorized the use of flusilazole on soybeans to control Australasian soybean rust (Phakopsora pachyrhizi); June 15, 2007 to June 15, 2010. Contact: (Andrea Conrath).

EPA authorized the use of cyproconazole on soybeans to control Australasian soybean rust (Phakopsora pachyrhizi); May 4, 2007 to March 31, 2009. Contact: (Stacey Groce).

EPA authorized the use of metconazole on soybeans to control Australasian soybean rust (Phakopsora pachyrhizi); June 15, 2007 to April 19, 2009. Contact: (Stacey Groce).

EPA authorized the use of flutriafol on soybeans to control Australasian soybean rust (Phakopsora pachyrhizi); June 28, 2007 to June 28, 2010. Contact: (Princess Campbell).

Washington

Department of Agriculture

Specific Exemptions:EPA authorized the use of formetanate hydrochloride on onion, bulb to control thrips; May 15, 2007 to August 30, 2007. Contact: (Andrew Ertman)

EPA authorized the use of fenamidone on carrots to control cavity spot; May 2, 2007 to November 1, 2007. Contact: (Andrea Conrath).

West Virginia

Department of Agriculture

Specific Exemption:EPA authorized the use of coumaphos in beehives to control varroa mites and small hive beetles; April 24, 2007 to February 1, 2008. Contact: (Stacey Groce).

Wisconsin

Department of Agriculture, Trade, and Consumer Protection

Specific Exemption:EPA authorized the use of mesotrione on cranberry to control birdsfoot trefoil (Lotus corniculatus), violet (Viola spp.), marsh St. John's wort (Triadenum Raf.), and buttercup (Ranunculus spp.); April 23, 2007 to September 30, 2007. Contact: (Libby Pemberton).

EPA authorized the use of formetanate hydrochloride on onion, bulb to control thrips; June 1, 2007 to September 15, 2007. Contact: (Andrew Ertman)

EPA authorized the use of fenpyroximate in beehives to control varroa mites; June 15, 2007 to February 28, 2008. Contact: (Stacey Groce).

Wyoming

Department of Agriculture

Specific Exemption: EPA authorized the use of lambda cyhalothrin on barley to control the Russian wheat aphid, cereal leaf beetle, army cutworms, and pale western cutworms; April 19, 2007 to July 31, 2007. Contact: (Andrew Ertman).

EPA authorized the use of coumaphos in beehives to control varroa mites and small hive beetles; April 24, 2007 to February 1, 2008. Contact: (Stacey Groce).

Quarantine: EPA authorized the use of chlorophene in laboratories to control prions; April 4, 2007 to April 4, 2010. Contact: (Princess Campbell).

List of Subjects

Environmental protection, Pesticides and pests.

Dated: August 9, 2007.
Donald R. Stubbs,
Acting Director, Registration Division, Office of Pesticide Programs.

FR Doc. E7-16312 Filed 8-21-07; 8:45 am

BILLING CODE 6560-50-S